DEPARTMENT OF HEALTH AND HUMAN SERVICES

Renewal of Charter for the Chronic Fatigue Syndrome Advisory Committee

AGENCY: Department of Health and Human Services, Office of the Secretary, Office of the Assistant Secretary for Health.

ACTION: Notice.

SUMMARY: As stipulated by the Federal Advisory Committee Act, as amended (5 U.S.C. App), the U.S. Department of Health and Human Services is hereby announcing renewal of the charter for the Chronic Fatigue Syndrome Advisory Committee (CFSAC).

FOR FURTHER INFORMATION CONTACT: Wanda K. Jones, Dr.P.H.; Department of Health and Human Services; c/o Office on Women's Health; 200 Independence Avenue, SW., Room 712E; Washington, DC 20201. Please refer all inquires to cfsac@hhs.gov.

SUPPLEMENTARY INFORMATION: CFSAC was established on September 5, 2002. The Committee was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

Since CFSAC was established, renewal of the Committee charter has been carried out at the appropriate intervals as stipulated by FACA. The previous Committee charter was scheduled to expire on September 5, 2010. On August 19, 2010, the Secretary of Health and Human Services approved for the Committee charter to be renewed. The new charter was effected and filed with the appropriate congressional offices and Library of Congress on September 5, 2010. Renewal of the CFSAC charter provides authorization for the Committee to operate until September 5, 2012.

A copy of the Committee charter is available on the CFSAC Web site at http://www.hhs.gov/advcomcfs. A copy of the Committee charter also can be obtained by accessing the FACA database that is maintained by the Committee Management Secretariat under the General Services Administration. The Web site address for the FACA database is http://fido.gov/facadatabase.

Dated: September 30, 2010.
Wanda K. Jones,
Designated Federal Officer, Chronic Fatigue Syndrome Advisory Committee.

[FR Doc. 2010-25111 Filed 10-5-10; 8:45 am]

BILLING CODE 4150-42-P